DEPARTMENT OF STATE

[Public Notice 5325]

Notice of Meeting of the Cultural Property Advisory Committee

In accordance with the provisions of the Convention on Cultural Property Implementation Act (19 U.S.C. 2601 et seq.) (the Act) there will be a meeting of the Cultural Property Advisory Committee on Thursday, March 23, 2006, from approximately 9 a.m. to 5 p.m., and on Friday, March 24, from approximately 9 a.m. to 3 p.m., at the Department of State, Annex 44, Room 840, 301 4th St., SW., Washington, DC. At this meeting the Committee will conduct its ongoing review function with respect to the Memorandum of Understanding Between the Government of the United States of America and the Government of the Republic of Peru Concerning the Imposition of Import Restrictions on Archaeological Material from the Pre-Hispanic Cultures and Certain Ethnological Material from the Colonial Period; and, with respect to the Memorandum of Understanding with the Government of the Republic of Cyprus Concerning the Imposition of Import Restrictions on Pre-Classical and Classical Archaeological Objects. This meeting is for the Committee to satisfy its ongoing review responsibility of the effectiveness of agreements pursuant to the Act and will focus its attention on Article II of the MOUs. This is not a meeting to consider extension of the MOUs. Such a meeting or meetings will be scheduled at some time in the future at which time a public session will be held.

The Committee's responsibilities are carried out in accordance with provisions of the Convention on Cultural Property Implementation Act (19 U.S.C. 2601 et seq.). The U.S.—Peru MOU, the U.S.—Cyprus MOU, the designated lists of restricted categories, the text of the Act, and related information may be found at http://exchanges.state.gov/culprop.

The meeting on March 23-24 will be closed pursuant to 5 U.S.C. 552b(c)(9)(B) and 19 U.S.C. 2605(h).

Dated: March 2, 2006.
C. Miller Crouch,
Acting Assistant Secretary for Educational and Cultural Affairs, Department of State.

[FR Doc. E6-3461 Filed 3-9-06; 8:45 am]

BILLING CODE 4710-05-P